DEPARTMENT OF ENERGY

Federal Energy Regulatory Commission

Combined Notice of Filings

Take notice that the Commission has received the following Natural Gas Pipeline Rate and Refund Report filings:

Filings Instituting Proceedings

Docket Numbers: RP14-323-000.

Applicants: Texas Eastern Transmission, LP.

Description: ConocoPhillips 1-01-2014 Releases to be effective 1/1/2014.

Filed Date: 12/26/13.

Accession Number: 20131226-5052.

Comments Due: 5 p.m. ET 1/7/14.

Docket Numbers: PR14-12-000.

Applicants: UGI Penn Natural Gas, Inc.

Description: Tariff filing per 284.123(b)(1): Baseline Filing to be effective 12/26/2013.

Filed Date: 12/26/13.

Accession Number: 20131226-5024.

Comments Due: 5 p.m. ET 1/16/14.

284.123(g) Protests Due: 5 p.m. ET 2/24/14.

Docket Numbers: RP14-297-000.

Applicants: Equitrans, L.P.

Description: tariff filing per 154.601: Non-conforming Service Rate Agreements—EGC to be effective 12/17/2013.

Filed Date: 12/18/13.

Accession Number: 20131218-5175.

Comment Due: 5 p.m. ET 12/30/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 27, 2013.
Nathaniel J. Davis, Sr.,
Deputy Secretary.

[FR Doc. 2013-31580 Filed 1-3-14; 8:45 am]

BILLING CODE P